ENVIRONMENTAL PROTECTION AGENCY

40 CFR Parts 85, 86, 600, 1036, 1037, and 1066

[EPA-HQ-OAR-2022-0829; FRL 10850-01-OAR]

Public Hearing for Multi-Pollutant Emissions Standards for Model Years 2027 and Later Light-Duty and Medium-Duty Vehicles

AGENCY: Environmental Protection Agency (EPA).

ACTION: Notification of public hearing.

SUMMARY: The Environmental Protection Agency (EPA) is announcing a two-day virtual public hearing to be held on May 9 and May 10, 2023, on its proposal titled, “Multi-Pollutant Emissions Standards for Model Years 2027 and Later Light-Duty and Medium-Duty Vehicles,” which was signed by Administrator Regan on April 11, 2023. An additional session may be held on May 11, 2023, if necessary to accommodate the number of testifiers that sign up to testify. EPA is proposing new, more stringent emissions standards for greenhouse gases (GHG) and criteria pollutants for light-duty vehicles and Class 2b and 3 (“medium-duty”) vehicles that would phase-in over model years 2027 through 2032. In addition, EPA is proposing GHG program revisions in several areas, including off-cycle and air conditioning credits and vehicle certification and compliance. EPA also is proposing new standards to control refueling emissions from incomplete medium-duty vehicles, and battery durability and warranty requirements for light-duty and medium-duty plug-in vehicles.

DATES: EPA will hold a virtual public hearing on May 9 and May 10, 2023. An additional session may be held on May 11, 2023, if necessary to accommodate the number of testifiers that sign-up to testify. Please refer to the SUPPLEMENTARY INFORMATION section for additional information on the public hearing and registration. See EPA's light-duty GHG website at https://www.epa.gov/regulations-emissions-vehicles-and-engines/proposed-rule-multi-pollutant-emissions-standards-model for any updates to this scheduled hearing as EPA does not intend to publish a document in the Federal Register announcing updates.

ADDRESSES: The virtual public hearing will be held on May 9 and May 10, 2023. All hearing attendees (including those who do not intend to provide testimony) should notify EPA of their intent to attend or speak at the hearing by pre-registering by May 2, 2023, preferably by email to EPA-LD-hearings@epa.gov or by contacting the contact person listed under FOR FURTHER INFORMATION CONTACT, below. Additional information regarding the hearing appears below under SUPPLEMENTARY INFORMATION.

FOR FURTHER INFORMATION CONTACT: Elizabeth Miller, Office of Transportation and Air Quality, Assessment and Standards Division (ASD), Environmental Protection Agency, 2000 Traverwood Drive, Ann Arbor, MI 48105; telephone number: (734) 214-4703; email address: EPA-LD-hearings@epa.gov.

SUPPLEMENTARY INFORMATION: Under its Clean Air Act section 202 authority, the Environmental Protection Agency (EPA) is proposing new, more stringent emissions standards for criteria pollutants and greenhouse gases (GHG) for light-duty vehicles and Class 2b and 3 (“medium-duty”) vehicles that would phase-in over model years 2027 through 2032. In addition, EPA is proposing GHG program revisions in several areas, including off-cycle and air conditioning credits, the treatment of upstream emissions associated with zero-emission vehicles and plug-in hybrid electric vehicles in compliance calculations, and vehicle certification and compliance. EPA is also proposing new standards to control refueling emissions from incomplete medium-duty vehicles, and battery durability and warranty requirements for light-duty and medium-duty plug-in vehicles. EPA is also proposing minor amendments to update program requirements related to aftermarket fuel conversions, importing vehicles and engines, evaporative emission test procedures, and test fuel specifications for measuring fuel economy. The “Multi-Pollutant Emissions Standards for Model Years 2027 and Later Light-Duty and Medium-Duty Vehicles” proposed rule was signed on April 11, 2023 and will be published in the Federal Register. The pre-publication version is available at https://www.epa.gov/regulations-emissions-vehicles-and-engines/proposed-rule-multi-pollutant-emissions-standards-model.

EPA is hosting a separate hearing for the “Greenhouse Gas Emissions Standards for Heavy-Duty Vehicles—Phase 3” (HDP3) proposed rule that was signed on April 11, 2023. For more information on the HDP3 rule and how to attend the HDP3 hearing, visit the heavy-duty vehicle and engine GHG rule website https://www.epa.gov/regulations-emissions-vehicles-and-engines/proposed-rule-greenhouse-gas-emissions-standards-heavy.

Participation in Virtual Public Hearing

To register to speak at the virtual hearing or attend the hearing (including those who do not intend to provide testimony) please notify EPA by May 2, 2023, preferably by email to EPA-LD-hearings@epa.gov, or by contacting the contact person listed under FOR FURTHER INFORMATION CONTACT. While pre-registration by May 2, 2023, is preferred, registration will be open through the last day of the hearing. EPA will provide participants with the option to enable live closed captioning and if requested, Spanish interpretation during the hearing. If you are requesting special accommodations, please pre-register for the hearing and describe your needs by May 2. To the extent possible, EPA will work to accommodate requests to register or testify received after May 2, though EPA may not be able to arrange accommodations without advanced notice. Instructions and a link to join the hearing will be provided via email to all participants that register.

Each commenter will have a maximum of three minutes to provide oral testimony. EPA may ask clarifying questions during the oral presentations but will not respond to the presentations at that time. EPA recommends submitting the text of your oral comments as written comments to the rulemaking docket for this action (Docket ID EPA-HQ-OAR-2022-0829); please clearly mark your submittal as hearing testimony. Written statements and supporting information submitted during the comment period will be considered with the same weight as oral comments and supporting information presented at the public hearing.

The testimony provided will be transcribed and included as a part of the record in the docket for this rulemaking. Additional written comments may be submitted to the rulemaking docket, which may be accessed via www.regulations.gov. Do not include, either in testimony or written comments submitted directly to the docket, any information you consider to be sensitive information, including but not limited to Confidential Business Information (CBI)/Proprietary Business Information (PBI), medical information about someone other than yourself, or any information whose disclosure is restricted by an applicable authority. Please visit https://www.epa.gov/dockets/commenting-epa-dockets for additional submission methods; the full EPA public comment policy; information about how to submit sensitive information such as CBI/PBI, or multimedia submissions; and general guidance on making effective comments.

Please note that any updates made to any aspect of the hearing logistics, including a potential additional session on May 11, 2023, will be posted online at the rule website https://www.epa.gov/regulations-emissions-vehicles-and-engines/proposed-rule-multi-pollutant-emissions-standards-model. While EPA expects the hearing to go forward as set forth above, please monitor our website or contact the person listed in the FOR FURTHER INFORMATION CONTACT section to determine if there are any updates. EPA does not intend to publish a document in the Federal Register announcing updates.

How can I get copies of the proposed action and other related information?

EPA has established a docket for this action under Docket ID No. EPA-HQ-OAR-2022-0829. EPA has also developed a website for this proposal, which is available at https://www.epa.gov/regulations-emissions-vehicles-and-engines/proposed-rule-multi-pollutant-emissions-standards-model. Please refer to the notice of proposed rulemaking for detailed information related to the proposal.

William Charmley,
Director, Assessment and Standards Division, Office of Transportation and Air Quality.

[FR Doc. 2023-07965 Filed 4-21-23; 8:45 am]

BILLING CODE 6560-50-P